DEPARTMENT OF ENERGY

Federal Energy Regulatory Commission

Notice of Effectiveness of Exempt Wholesale Generator Status

| Project No.
King Mountain Upton Wind, LLC | EG19-1-000
SR Millington, LLC | EG19-2-000
R-WS Antelope Valley Gen-Tie, LLC | EG19-3-000
Phoebe Energy Project, LLC | EG19-4-000
Fluvanna Wind Energy 2, LLC | EG19-5-000
Conemaugh Power Pass-Through Holders LLC | EG19-6-000
Keystone Power Pass-Through Holders LLC | EG19-7-000
GRP Madison, LLC | EG19-8-000
GRP Franklin, LLC | EG19-9-000
North Rosamond Solar, LLC | EG19-10-000
Indian Mesa Wind, LLC | EG19-11-000
Woodward Mountain Wind, LLC | EG19-12-000
Gateway Energy Storage, LLC | EG19-13-000
Carson Hybrid Energy Storage LLC | EG19-14-000
Lockett Windfarm LLC | EG19-15-000

Take notice that during the month of December 2018, the status of the above-captioned entities as Exempt Wholesale Generators became effective by operation of the Commission's regulations. 18 CFR 366.7(a) (2018).

Dated: January 9, 2019.
Nathaniel J. Davis, Sr.,
Deputy Secretary.

[FR Doc. 2019-01159 Filed 2-5-19; 8:45 am]

BILLING CODE 6717-01-P